DEPARTMENT OF COMMERCE

National Oceanic and Atmospheric Administration

Proposed Information Collection; Comment Request; West Coast Region Permit Family of Forms—Southwest

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995.

DATES: To ensure consideration, written or on-line comments must be submitted on or before December 9, 2019.

ADDRESSES: Direct all written comments to Adrienne Thomas, PRA Officer, NOAA, 151 Patton Avenue, Room 159, Asheville, NC 28801 (or at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Shannon Penna, National Marine Fisheries Service (NMFS), West Coast Region (WCR) Long Beach Office, 501 West Ocean Blvd., Suite 4200, Long Beach, CA 90802, (562) 980-4238 or Shannon.Penna@nooa.gov.

SUPPLEMENTARY INFORMATION:

I. Abstract

This request is for an extension of a currently approved collection. The WCR Southwest Permits Office administers permits required for persons participating in Federally-managed fisheries off the West Coast under the Magnuson-Stevens Fishery Conservation and Management act, 16 U.S.C. 1801 et seq. There are three types of permits: Open access fishery permits, limited entry permits for selected fisheries, and exempted fishing permits (EFPs). Open access permits are used in all fisheries where there are no specific limitations or eligibility criteria for entry to the fishery. Limited entry permits are used to prevent overcapitalization or address other management goals in the fishery and are issued to applicants for fishing activities that would otherwise be prohibited under a fisheries management plan. Permits also provide an important link between the NMFS and fishermen via the permit application process. The permit application process also makes it easier for NMFS staff to contact fishermen and advise them of changes in the regulations or fishery conditions, and give fishermen a direct point of contact in case they have questions or issues they want to bring to the attention of NMFS or a fishery management council.

This collection consists of four permits: the General Highly Migratory Species permit, limited entry permits for coastal pelagic species and drift gillnet, and EFPs.

II. Method of Collection

Forms are available on the internet; paper applications are also available and may be submitted by mail to the Long Beach Permits Office. In addition, an online submission option is available for the general Highly Migratory Species permit through the National Permits System.

III. Data

OMB Control Number: 0648-0204.

Form Number(s): None.

Type of Review: Regular submission.

Affected Public: Business or other for-profit organizations.

Estimated Number of Respondents: 855.

Estimated Time per Response: HMS permit (new 20 minutes, renew 10 minutes); CPS (renew 15 minutes, transfer 30 minutes); DGN (renew 20 minutes, transfer 30 minutes); EFP, 60 minutes; appeals, 2 hours.

Estimated Total Annual Burden Hours: 246.

Estimated Total Annual Cost to Public: $26,515.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-21994 Filed 10-8-19; 8:45 am]

BILLING CODE 3510-22-P